DEPARTMENT OF DEFENSE

GENERAL SERVICES ADMINISTRATION

NATIONAL AERONAUTICS AND SPACE ADMINISTRATION

48 CFR Parts 2, 3, 4, 7, 9, 11, 12, 13, 14, 15, 16, 18, 37, 42, 52 and 53

[FAR Case 2011-001, Docket No. FAR-2011-0001, Sequence No. 1]

RIN 9000-AL82

Federal Acquisition Regulation: Organizational Conflicts of Interest

AGENCY: Department of Defense (DoD), General Services Administration (GSA), and National Aeronautics and Space Administration (NASA).

ACTION: Proposed rule; withdrawal.

SUMMARY: DoD, GSA, and NASA are withdrawing the proposed rule to amend the Federal Acquisition Regulation (FAR) titled: Organizational Conflicts of Interest. The decision not to proceed with a final rule has been made given the amount of time that has passed since publication of the proposed rule. Accordingly, this proposed rule is withdrawn, and the FAR case is closed.

DATES: The proposed rule published on April 26, 2011, at 76 FR 23236 is withdrawn as of March 19, 2021.

FOR FURTHER INFORMATION CONTACT: Mahruba Uddowla, Procurement Analyst, at 703-605-2868 or mahruba.uddowla@gsa.gov. Please cite “FAR Case 2011-001”.

SUPPLEMENTARY INFORMATION: April 26, 2011, DoD, GSA, and NASA proposed to amend the FAR to revise regulatory coverage on organizational conflicts of interest (OCI) and provide additional coverage regarding contractor access to nonpublic information (76 FR 23236). The proposed rule sought public comment on a revised approach to OCI and unequal access to nonpublic information, as well as the OCI framework for major defense acquisition programs implemented in the Defense Federal Acquisition Regulation Supplement (DFARS) via DFARS Case 2009-D015 (75 FR 20954, April 22, 2010).

Given the amount of time that has passed since publication of the proposed rule, and potential changed circumstances, a decision has been made not to proceed with finalization of the FAR rule. Accordingly, the proposed rule published at 76 FR 23236 on April 26, 2011, is withdrawn and FAR Case 2011-001 is closed. Consideration of any future amendments to the FAR related to organizational conflicts of interest or unequal access to nonpublic information will be accomplished under a new FAR case.

List of Subjects in 48 CFR Parts 2, 3, 4, 7, 9, 11, 12, 13, 14, 15, 16, 18, 37, 42, 52 and 53

Government procurement.

William F. Clark,
Director, Office of Government-wide Acquisition Policy, Office of Acquisition Policy, Office of Government-wide Policy.

[FR Doc. 2021-05658 Filed 3-18-21; 8:45 am]

BILLING CODE 6820-EP-P